DEPARTMENT OF THE TREASURY

Office of the Comptroller of the Currency

12 CFR Parts 4, 5, 7, 10, 11, 16, 19, 24, 34, and 40

[Docket ID OCC-2014-0005]

RIN 1557-AD76

Technical Amendments: Removal of Rules Transferred to the Consumer Financial Protection Bureau; OCC Address Change

AGENCY: Office of the Comptroller of the Currency, Treasury.

ACTION: Final rule.

SUMMARY: The Office of the Comptroller of the Currency (OCC) is removing regulations concerning registration of mortgage loan originators, and regulations relating to privacy of consumer financial information. Rulemaking authority for these rules transferred to the Consumer Financial Protection Bureau on July 21, 2011 pursuant to Title X of the Dodd-Frank Wall Street Reform and Consumer Protection Act, and these OCC rules are therefore no longer operative. The OCC also is amending its regulations to update its address to reflect its move to a new headquarters building, to update the address of its Freedom of Information Act web portal, and to update its Web site address.

DATES: Effective March 21, 2014.

FOR FURTHER INFORMATION CONTACT: For additional information, contact Heidi Thomas, Special Counsel, or Stuart Feldstein, Director, Legislative and Regulatory Activities Division, 202-649-5490; Office of the Comptroller of the Currency, Washington, DC 20219.

SUPPLEMENTARY INFORMATION:

I. Description of Rule

This final rule makes a number of technical amendments to the OCC's rules, as described below.

Transfer of Rules to the Consumer Financial Protection Bureau

The Dodd-Frank Wall Street Reform and Consumer Protection Act ¹ (Dodd-Frank Act) transferred to the Consumer Financial Protection Bureau (CFPB) Federal rulemaking authority for the Secure and Fair Enforcement for Mortgage Licensing Act of 2008 (SAFE Act) ² and the financial information privacy provisions in Title V of the Gramm-Leach-Bliley Act (GLBA).³ The Office of the Comptroller of the Currency previously issued rules implementing these laws for national banks, Federal branches and agencies of foreign banks, and their operating subsidiaries (collectively, national banks) at 12 CFR part 34, subpart F (rules for national banks governing the registration of residential mortgage loan originators) and 12 CFR part 40 (privacy of customer financial information), respectively. This transfer of rulemaking authority to the CFPB occurred on July 21, 2011, and the CFPB has since reissued these rules as CFPB rules.⁴ National banks now must comply with these rules as reissued by the CFPB and not as previously promulgated and published by the OCC, rendering part 34, subpart F, and part 40 no longer operative. Accordingly, the OCC is removing these rules from the Code of Federal Regulations.⁵

¹ Public Law 111-203, 124 Stat. 1376 (2010).

² 12 U.S.C. 5101 et seq. See Dodd-Frank Act, sections 1002(12)(N) and 1022 (12 U.S.C. 5481(12)(N) and 5512).

³ In general, sections 502 through 509 of GLBA (15 U.S.C. 6802 through 6809). See Dodd-Frank Act sections 1002(12)(J) and 1022 (12 U.S.C. 5481(12)(J) and 5512).

⁴ See 12 CFR parts 1007 and 1016.

⁵ We note that the Dodd-Frank Act also transferred rulemaking authority for certain provisions of the Fair Credit Reporting Act to the CFPB. The OCC is addressing this transfer through a separate rulemaking.

OCC Headquarters Address Change

In May 2013, the OCC completed its move to a new headquarters building in Washington, DC. As a result, the address for the OCC included in 12 CFR parts 4, 5, 7, 10, 11, 16, and 19 is now out-of-date. This final rule amends these rules to replace the OCC's former address with its current address, 400 7th Street SW., Washington, DC 20219.

OCC Web site

Current 12 CFR parts 5 and 24 include the original Web site address for the OCC, http://www.occ.treas.gov. Since we published these rules, the OCC has simplified the Web site address to www.occ.gov. This final rule amends these rules to reflect this change.

OCC Freedom of Information Office

Twelve CFR 4.15(b)(1), 4.18(a)(1), and 4.18(b) contain an OCC Freedom of Information Act (FOIA) Web portal address, through which the public may submit FOIA requests, appeal an OCC FOIA decision, and track the status of a FOIA request. This final rule updates this address to https://foia-pal.occ.gov/palMain.aspx. In addition, the final rule amends 12 CFR 4.15(g) to clarify the name of the OCC office that receives FOIA requests.

II. Notice and Comment

Pursuant to the Administrative Procedure Act (APA), notice and comment are not required prior to the issuance of a final rule if an agency, for good cause, finds that “notice and public procedure thereon are impracticable, unnecessary, or contrary to the public interest.” ⁶

⁶ 5 U.S.C. 553(b).

The OCC finds that public notice and comment on this final rule are unnecessary. Because the Dodd-Frank Act transferred all Federal rulemaking for the SAFE Act and the financial information privacy provisions in Title V of GLBA to the CFPB as of July 21, 2011, the existing OCC rules implementing these laws for national banks are no longer operative. The removal of these rules from the Code of Federal Regulations is clerical in nature, and will reduce any possible confusion that may result from having two sets of rules addressing these laws.

In addition, the final rule's update of the OCC's physical and Web site addresses, FOIA web portal address, and FOIA division name is purely a technical change to our rules and provides our regulated institutions, interested parties, and the public with the OCC's current and most accurate contact information.

For these reasons, the OCC has good cause to conclude that advance notice and comment under the APA for this rulemaking are unnecessary.

III. Effective Date

This final rule is effective on March 21, 2014. Pursuant to the APA, a final rule may be effective without 30 days advance publication in the Federal Register if an agency finds good cause and publishes such with the final rule.⁷ The purpose of a delayed effective date is to allow regulated entities to adjust their behavior before the final rule takes effect. As described above, the final rule removes from the Code of Federal Regulations rules that are no longer valid and updates the OCC's physical and Web site addresses, the OCC's FOIA web portal address, and the OCC's FOIA division name. These amendments do not require national banks to adjust their behavior in a substantive manner. Therefore, the OCC finds good cause to dispense with a delayed effective date.

⁷ 5 U.S.C. 553(d)(3).

Section 302 of the Riegle Community Development and Regulatory Improvement Act of 1994 ⁸ (RCDRIA) requires, subject to certain exceptions, that regulations imposing additional reporting, disclosure, or other requirements on insured depository institutions take effect on the first day of the calendar quarter after publication of the final rule. This final rule does not impose additional reporting, disclosure, or other requirements and therefore section 302 of the RCDRIA does not apply.

⁸ 12 U.S.C. 4802.

IV. Regulatory Analysis

Regulatory Flexibility Act

Pursuant to the Regulatory Flexibility Act (RFA),⁹ an agency must prepare a regulatory flexibility analysis for all proposed and final rules that describes the impact of the rule on small entities, unless the head of an agency certifies that the rule will not have “a significant economic impact on a substantial number of small entities.” However, the RFA applies only to rules for which an agency publishes a general notice of proposed rulemaking pursuant to the APA.¹⁰ As discussed above, the OCC has determined for good cause that the APA does not require notice and public comment on this rule and, therefore, we are not publishing a general notice of proposed rulemaking. Thus, the RFA does not apply to this final rule.

⁹ 5 U.S.C. 603.

¹⁰ 5 U.S.C. 603(a), 604(a).

Unfunded Mandates Reform Act of 1995

Section 202 of the Unfunded Mandates Reform Act of 1995 (UMRA) ¹¹ requires that an agency prepare a budgetary impact statement before promulgating a rule that includes a Federal mandate that may result in the expenditure by state, local, and tribal governments, in the aggregate, or by the private sector of $100 million or more in any one year. If a budgetary impact statement is required, section 205 of UMRA ¹² also requires an agency to identify and consider a reasonable number of regulatory alternatives before promulgating a rule. However, the UMRA applies only to rules for which an agency publishes a general notice of proposed rulemaking pursuant to the APA.¹³ As discussed above, the OCC has determined for good cause that the APA does not require general notice and public comment on this rule and, therefore, we are not publishing a general notice of proposed rulemaking. Thus, the UMRA does not apply to this final rule. Accordingly, the OCC has not prepared a budgetary impact statement or specifically addressed the regulatory alternatives considered.

¹¹ 2 U.S.C. 1532.

¹² 2 U.S.C. 1535.

¹³ 2 U.S.C. 1532(a).

Paperwork Reduction Act

This final rule removes several regulatory provisions that have currently approved collections of information under the Paperwork Reduction Act (PRA) (44 U.S.C. 3501-3520).¹⁴ Non-substantive changes have previously been made to these collections to reflect the transfer of the rules to the CFPB.

¹⁴ OMB Control Nos. 1557-0216 and1557-0243.

List of Subjects

12 CFR Part 4

Administrative practice and procedure, Freedom of information, Individuals with disabilities, Minority businesses, Organization and functions (Government agencies), Reporting and recordkeeping requirements, Women.

12 CFR Part 5

Administrative practice and procedure, National banks, Reporting and recordkeeping requirements, Securities.

12 CFR Part 7

Computer technology, Credit, Insurance, Investments, National banks, Reporting and recordkeeping requirements, Securities, Surety bonds.

12 CFR Part 10

National banks, Reporting and recordkeeping requirements, Securities.

12 CFR Part 11

Confidential business information, National banks, Reporting and recordkeeping requirements, Securities.

12 CFR Part 16

National banks, Reporting and recordkeeping requirements, Securities.

12 CFR Part 19

Administrative practice and procedure, Crime, Equal access to justice, Investigations, National banks, Penalties, Securities.

12 CFR Part 24

Community development, Credit, Investments, Low and moderate income housing, National banks, Reporting and recordkeeping requirements, Rural areas, Small businesses.

12 CFR Part 34

Mortgages, National banks, Reporting and recordkeeping requirements.

12 CFR Part 40

Banks, Banking, Consumer protection, National banks, Privacy, Reporting and recordkeeping requirements.

For the reasons set forth in the preamble, and under the authority of 12 U.S.C. 93a, chapter I of title 12 of the Code of Federal Regulations is amended as follows:

PART 4 [AMENDED]

1. Part 4 is amended as follows:

a. Remove the phrase “250 E Street, SW.,” wherever it appears and add “400 7th Street SW.,” in its place in §§ 4.4, 4.14(c), and 4.17(c);

b. Remove the phrase “250 E Street, SW.,” and add “400 7th Street, SW.,” in its place in §§ 4.15(b)(1), 4.15(e)(2), and 4.34(a);

c. Remove the web address “https://appsec.occ.gov/publicaccesslink/palMain.aspx” and add the web address “https://foia-pal.occ.gov/palMain.aspx” in its place in §§ 4.15(b)(1), 4.18(a)(1), and 4.18(b); and

d. Remove the phrase “OCC Communications Division” and add in its place “Disclosure Services, Communications Division” in § 4.15(g).

PART 5 [AMENDED]

2. Part 5 is amended as follows:

a. Remove the phrase “250 E Street SW., Washington, DC 20219-0001” and add “400 7th Street SW., Washington, DC 20219” in its place in § 5.2(c);

b. Remove the web address “http://www.occ.treas.gov” and add “www.occ.gov” in its place in § 5.2(c); and

c. Remove the web address “www.occ.treas.gov” and add “www.occ.gov” in its place in footnote 1 in § 5.34(e)(5)(v)(R).

PART 7 [AMENDED]

3. Part 7 is amended by removing the phrase “250 E Street SW.,” and adding “400 7th Street SW.,” in its place in footnote 2 in § 7.2000(c).

PART 10 [AMENDED]

4. Part 10 is amended by removing the phrase “250 E Street SW.,” and adding “400 7th Street SW.,” in its place in § 10.2(c).

PART 11 [AMENDED]

5. Part 11 is amended by removing the phrase “250 E Street SW.,” and adding “400 7th Street SW.,” in its place in § 11.3(a)(1).

PART 16 [AMENDED]

6. Part 16 is amended by removing the phrase “250 E Street SW.,” and adding “400 7th Street SW.,” in its place in § 16.17(a).

PART 19 [AMENDED]

7. Part 19 is amended by removing the phrase “250 E Street SW.,” and adding “400 7th Street SW.,” in its place in § 19.100.

PART 24 [AMENDED]

8. Part 24 is amended by removing the web address “http://www.occ.treas.gov” and adding “www.occ.gov” in its place in § 24.5(a)(2) and (b)(1).

PART 34—REAL ESTATE LENDING AND APPRAISALS

9. Revise the authority citation for part 34 to read as follows:

Authority: 12 U.S.C. 1 et seq., 25b, 29, 93a, 371, 1465, 1701j-3, 1828(o), and 5412(b)(2)(B).

Subpart F [Removed]

10. Remove subpart F, consisting of §§ 34.101 through Appendix A to Subpart F of Part 34.

PART 40 [REMOVED]

11. Remove part 40.

Dated: March 10, 2014.
Thomas J. Curry,
Comptroller of the Currency.

[FR Doc. 2014-05826 Filed 3-20-14; 8:45 am]

BILLING CODE 4810-01-P